DEPARTMENT OF HEALTH AND HUMAN SERVICES

Office of the National Coordinator for Health Information Technology; American Health Information Community Biosurveillance Workgroup Meeting

ACTION: Announcement of meeting.

SUMMARY: This notice announces the 13th meeting of the American Health Information Community Biosurveillance Workgroup in accordance with the Federal Advisory Committee Act (Pub. L. 92-463, 5 U.S.C., App.).

DATES: January 5, 2007 from 12 to 3 p.m.

ADDRESSES: Mary C. Switzer Building (330 C Street, SW., Washington, DC 20201), Conference Room 4090 (please bring photo ID for entry to a Federal building).

FOR FURTHER INFORMATION CONTACT: http://www.hhs.gov/healthit/ahic/bio_main.html.

SUPPLEMENTARY INFORMATION: The Workgroup will continue discussing the Biosurveillance Priority Area matrix.

The meeting will be available via internet access. For additional information, go to http://www.hhs.gov/healthit/ahic/bio_instruct.html.

Dated: December 14, 2006.
Judith Sparrow,
Director, American Health Information Community, Office of Programs and Coordination, Office of the national Coordinator for Health Information Technology.

[FR Doc. 06-9804 Filed 12-20-06; 8:45 am]

BILLING CODE 4150-24-M